DEPARTMENT OF COMMERCE

International Trade Administration

[A-570-053]

Certain Aluminum Foil From the People's Republic of China: Deferral of Preliminary Determination of the Less-Than-Fair-Value Investigation—Correction Notice

AGENCY: Enforcement and Compliance, International Trade Administration, Department of Commerce.

DATES: Applicable October 18, 2017.

FOR FURTHER INFORMATION CONTACT: Erin Kearney at (202) 482-0167, AD/CVD Operations, Enforcement and Compliance, International Trade Administration, Department of Commerce, 1401 Constitution Avenue NW., Washington, DC 20230.

SUPPLEMENTARY INFORMATION:

Background

On October 12, 2017, the Department of Commerce (the Department) published a notice of the deferral of the preliminary determination in the less-than-fair-value investigation of aluminum foil from the People's Republic of China (PRC).¹ In the Deferral Notice, the Department inadvertently published an incorrect date of the deferred preliminary determination.²

¹ See Certain Aluminum Foil from the People's Republic of China: Deferral of Preliminary Determination of the Less-Than-Fair-Value Investigation, 82 FR 47481 (October 12, 2017) (Deferral Notice).

² Id.

Correction

The Department expects to issue the preliminary determination no later than November 30, 2017.

Dated: October 12, 2017.
Gary Taverman,
Deputy Assistant Secretary for Antidumping and Countervailing Duty Operations, performing the non-exclusive functions and duties of the Assistant Secretary for Enforcement and Compliance.

[FR Doc. 2017-22599 Filed 10-17-17; 8:45 am]

BILLING CODE 3510-DS-P